POSTAL REGULATORY COMMISSION

[Docket Nos. MC2013-39 and CP2013-51; Order No. 1663]

New Postal Product; Negotiated Service Agreement

AGENCY: Postal Regulatory Commission.

ACTION: Notice.

SUMMARY: The Commission is noticing a recently-filed Postal Service request to add Parcel Return Service Contract 3 to the competitive product list. This notice informs the public of the filing, invites public comment, and takes other administrative steps.

DATES: Comments are due: February 26, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Notice of Filings

III. Ordering Paragraphs

I. Introduction

Pursuant to 39 U.S.C. 3642 and 39 CFR 3020.30 et seq., the Postal Service filed a request and associated supporting information to add Parcel Return Service Contract 3 to the competitive product list.¹ The Postal Service asserts that Parcel Return Service Contract 3 is a competitive product “not of general applicability” within the meaning of 39 U.S.C. 3632(b)(3). Id. at 1. The Request has been assigned Docket No. MC2013-39.

¹ Request of the United States Postal Service to Add Parcel Return Service Contract 3 to Competitive Product List and Notice of Filing (Under Seal) of Unredacted Governors' Decision, Contract, and Supporting Data, February 15, 2013 (Request).

The Postal Service contemporane- ously filed an agreement related to the proposed new product (Agreement). Id. Attachment B. The Agreement has been assigned Docket No. CP2013-51.

Request. In support of its Request, the Postal Service filed six attachments:

• Attachment A—a redacted copy of Governors' Decision No. 11-6;

• Attachment B—a redacted copy of the Agreement;

• Attachment C—a proposed change in the Mail Classification Schedule competitive product list;

• Attachment D—a Statement of Supporting Justification as required by 39 CFR 3020.32;

• Attachment E—a certification of compliance with 39 U.S.C. 3633(a); and

• Attachment F—an application for non-public treatment of materials to maintain redacted portions of the Agreement and supporting documents under seal.

In the Statement of Supporting Justification, Dennis R. Nicoski, Manager, Field Sales Strategy and Contracts, asserts that the service to be provided under the Agreement will cover its attributable costs, make a positive contribution to institutional costs, and increase contribution toward the requisite 5.5 percent of the Postal Service's total institutional costs. Id. Attachment D at 1. Thus, Mr. Nicoski contends there will be no issue of subsidization of competitive products by market dominant products as a result of this contract. Id.

Related contract. A redacted version of the Agreement is included with the Request. The Agreement will become effective the day following the day that the Commission provides all necessary regulatory approval. The Agreement is scheduled to expire 2 years after its effective date but may be terminated earlier by either party with 6 months' written notice. Id. Attachment B at 3. The Postal Service represents that the Agreement is consistent with 39 U.S.C. 3633(a). Id. Attachment D.

The Postal Service filed much of the supporting materials, including the Agreement, under seal. Id. Attachment F. It maintains that the Agreement and related financial information, including the customer's name and the accompanying analyses that provide prices, terms, conditions, cost data, and financial projections, should remain confidential. Id. Attachment F. It also requests that the Commission order that non-public treatment of all customer-identifying information be extended indefinitely, instead of ending after 10 years. Id. at 7.

II. Notice of Filings

The Commission establishes Docket Nos. MC2013-39 and CP2013-51 for consideration of the Request pertaining to the proposed Parcel Return Service Contract 3 product and the related Agreement, respectively.

Interested persons may submit comments on whether the Postal Service's filings in the captioned dockets are consistent with the policies of 39 U.S.C. 3632, 3633, or 3642 and 39 CFR part 3015 and 39 CFR 3020, subpart B. Comments are due no later than February 26, 2013. The public portions of these filings can be accessed via the Commission's Web site (http://www.prc.gov).

The Commission appoints Kenneth R. Moeller to serve as Public Representative in these dockets.

III. Ordering Paragraphs

It is ordered:

1. The Commission establishes Docket Nos. MC2013-39 and CP2013-51 for consideration of the matters raised in each docket.

2. Pursuant to 39 U.S.C. 505, Kenneth R. Moeller is appointed to serve as an officer of the Commission (Public Representative) to represent the interests of the general public in these proceedings.

3. Comments by interested persons in these proceedings are due no later than February 26, 2013.

4. The Secretary shall arrange for publication of this Order in the Federal Register.

By the Commission.
Ruth Ann Abrams,
Acting Secretary.

[FR Doc. 2013-04168 Filed 2-22-13; 8:45 am]

BILLING CODE 7710-FW-P